NATIONAL SCIENCE FOUNDATION

Advisory Committee for Mathematical and Physical Sciences; Notice of Meeting

In accordance with Federal Advisory Committee Act (Pub. L. 92-463, as amended), the National Science Foundation announces the following meeting:

Name: Advisory Committee for Mathematical and Physical Sciences (#66).

Date/Time: November 3-4, 2014: 9:00 a.m. to 5:00 p.m.

Place: National Science Foundation, 4201 Wilson Boulevard, Suite 1235, Arlington, Virginia 22230.

To help facilitate your entry into the building, contact Caleb Autrey (cautrey@nsf.gov). Your request should be received on or prior to October 27, 2014.

Type of Meeting: Open, in person.

Contact Person: Eduardo Misawa and Caleb Autrey, National Science Foundation, 4201 Wilson Boulevard, Suite 1005, Arlington, Virginia 22230, 703-292-5353 and 5137, respectively.

Minutes: Meeting minutes and other information may be obtained from the Staff Associate and MPSAC Designated Federal Officer at the above address or the Web site at http://www.nsf.gov/mps/advisory.jsp.

Purpose of Meeting: To study data, programs, policies, and other information pertinent to the National Science Foundation and to provide advice and recommendations concerning research in mathematics and physical sciences.

Agenda

• State of the Directorate for Mathematical and Physical Sciences (MPS): Challenges and Opportunities

• Reports from current subcommittees

Dated: September 25, 2014.
Suzanne Plimpton,
Acting, Committee Management Officer.

[FR Doc. 2014-23274 Filed 9-30-14; 8:45 am]

BILLING CODE 7555-01-P